NATIONAL AERONAUTICS AND SPACE ADMINISTRATION

[Notice 01-101]

Government-Owned Inventions, Available for Licensing

AGENCY: National Aeronautics and Space Administration.

ACTION: Notice of Availability of Inventions for Licensing.

SUMMARY: The inventions listed below are assigned to the National Aeronautics and Space Administration, have been filed in the United States Patent and Trademark Office, and are available for licensing.

DATES: August 30, 2001.

FOR FURTHER INFORMATION CONTACT: James McGroary, Patent Counsel, Marshall Space Flight Center, Code LS01, Huntsville, AL 35812; telephone (256) 544-0013, fax (256) 544-0258.

NASA Case No. MFS-31464-1: Multi-Layer Identification Label Using Stacked Identification Symbols

NASA Case No. MFS-31546-1: High Precision Grids For Neutron, Hard X-Ray, And Gamma-Ray Imaging Systems

NASA Case No. MFS-31565-1: Phase Modulator With Terahertz Optical Bandwidth Formed By Multi-Layered Dielectric Stack

NASA Case No. MFS-31584-1: Hypergolic Ignitor Assembly;

Dated: August 22, 2001.
Edward A. Frankle,
General Counsel.

[FR Doc. 01-21869 Filed 8-29-01; 8:45 am]

BILLING CODE 7510-01-P